DEPARTMENT OF AGRICULTURE

Farm Service Agency

Information Collection; Direct Loan Servicing—Special

AGENCY: Farm Service Agency, USDA.

ACTION: Notice; request for comments.

SUMMARY: In accordance with the Paperwork Reduction Act of 1995, the Farm Service Agency (FSA) is seeking comments from all interested individuals and organizations on a revision of a currently approved information collection that supports Direct Loan Servicing-Special programs. The information is used in eligibility and feasibility determinations on borrower requests for disaster set-aside, primary loan servicing, buyout at market value, and homestead protection, as well as liquidation of security.

DATES: We will consider comments that we receive by January 20, 2012.

ADDRESSES: We invite you to submit comments on this notice. In your comments, include the date, volume, and page number of this issue of the Federal Register, the OMB control number and the title of the information collection. You may submit comments by any of the following methods:

• Federal eRulemaking Portal: Go to http://www.regulations.gov. Follow the online instructions for submitting comments.

• Mail: J. Lee Nault, Loan Specialist, USDA/FSA/FLP, STOP 0523, 1400 Independence Avenue SW., Washington, DC 20250-0520.

• Email: lee.nault@wdc.usda.gov.

• Fax: (202) 690-0949.

You may also send comments to the Desk Officer for Agriculture, Office of Information and Regulatory Affairs, Office of Management and Budget, Washington, DC 20503. Copies of the information collection may be requested by contacting J. Lee Nault at the above address.

FOR FURTHER INFORMATION CONTACT: J. Lee Nault, Loan Specialist, Farm Service Agency, (202) 720-6834.

SUPPLEMENTARY INFORMATION:

Title: (7 CFR part 766) Farm Loan Programs—Direct Loan Servicing-Special.

OMB Number: 0560-0233.

Expiration Date: 01/31/2014.

Type of Request: Revision.

Abstract: FSA is revising a currently approved information collection to add two new forms which would allow certain borrowers to: (1) Request a new notification of loan servicing options available; and (2) complete a new loan servicing application.

FSA's Farm Loan Programs provide loans to family farmers to purchase real estate and equipment and finance agricultural production. Direct Loan Servicing—Special, as specified in 7 CFR part 766, provides the requirements for servicing financially distressed and delinquent direct loan borrowers. FSA's loan servicing options include disaster set-aside, primary loan servicing (including reamortization, rescheduling, deferral, write down and conservation contracts), buyout at market value, and homestead protection. FSA also services borrowers who file bankruptcy or liquidate security when servicing options are not available or are insufficient to produce a feasible plan. The information collections contained in the regulation are necessary to evaluate a borrower's request for consideration of the special servicing actions.

Respondents: Individuals or households, businesses or other for profit farms.

Estimated Annual Number of Respondents: 14,929.

Estimated Number of Reponses per Respondent: 1.

Total Annual Responses: 27,905.

Estimated Total Annual Burden Hours: 15,832.

We are requesting comments on all aspects of this information collection and to help us to:

(1) Evaluate whether the collection of information is necessary for the proper performance of the functions of the FSA, including whether the information will have practical utility;

(2) Evaluate the accuracy of the FSA's estimate of burden including the validity of the methodology and assumptions used;

(3) Enhance the quality, utility and clarity of the information to be collected; and

(4) Minimize the burden of the collection of information on those who are to respond, including through the use of appropriate automated, electronic, mechanical, or other technological collection techniques or other forms of information technology.

All comments received in response to this notice, including names and addresses when provided, will be a matter of public record. Comments will be summarized and included in the submission for Office of Management and Budget approval.

Signed on: November 15, 2011.
Bruce Nelson,
Administrator, Farm Service Agency.

[FR Doc. 2011-30031 Filed 11-18-11; 8:45 am]

BILLING CODE 3410-05-P